DEPARTMENT OF ENERGY

Federal Energy Regulatory Commission

Combined Notice of Filings #1

Take notice that the Commission received the following electric corporate filings:

Docket Numbers: EC12-109-000.

Applicants: ITC Midwest LLC.

Description: ITC Midwest LLC submits its application seeking authorization to acquire from Interstate Power and Light Company certain batteries, switches, related equipment and structures etc pursuant to section 203.

Filed Date: 6/11/12.

Accession Number: 20120611-5183.

Comments Due: 5 p.m. ET 7/2/12.

Take notice that the Commission received the following electric rate filings:

Docket Numbers: ER11-4657-001.

Applicants: Apple Group.

Description: Apple Group Baseline Tariff to be effective 9/28/2011.

Filed Date: 6/12/12.

Accession Number: 20120612-5024.

Comments Due: 5 p.m. ET 7/3/12.

Docket Numbers: ER12-165-004.

Applicants: Midwest Independent Transmission System Operator, Inc.

Description: G746 2nd Compliance Filing to be effective 12/21/2011.

Filed Date: 6/11/12.

Accession Number: 20120611-5146.

Comments Due: 5 p.m. ET 7/2/12.

Docket Numbers: ER12-1140-000.

Applicants: PacifiCorp.

Description: BPA CCA Refund Report to be effective N/A.

Filed Date: 6/11/12.

Accession Number: 20120611-5138.

Comments Due: 5 p.m. ET 7/2/12.

Docket Numbers: ER12-1302-000.

Applicants: Southern California Edison Company.

Description: Southern California Edison Company Response to FERC Letter Request, dated May 10, 2012.

Filed Date: 6/11/12.

Accession Number: 20120611-5173.

Comments Due: 5 p.m. ET 7/2/12.

Docket Numbers: ER12-1312-000; ER12-1305-000.

Applicants: California Independent System Operator Corporation.

Description: California Independent System Operator Corporation's Response to FERC Letter Request, dated May 10, 2012.

Filed Date: 6/11/12.

Accession Number: 20120611-5180.

Comments Due: 5 p.m. ET 7/2/12.

Docket Numbers: ER12-1378-001.

Applicants: Cleco Power LLC.

Description: Compliance Filing per Order dated May 31, 2012 (Part 1 of 2) to be effective 6/1/2012.

Filed Date: 6/12/12.

Accession Number: 20120612-5020.

Comments Due: 5 p.m. ET 7/3/12.

Docket Numbers: ER12-1379-001.

Applicants: Cleco Power LLC.

Description: Compliance Filing per Order dated May 31, 2012 (Part 2 of 2) to be effective 6/1/2012.

Filed Date: 6/12/12.

Accession Number: 20120612-5021.

Comments Due: 5 p.m. ET 7/3/12.

Docket Numbers: ER12-1991-000.

Applicants: Southern California Edison Company.

Description: Amended Radial Lines Agreement with GenOn West, LP to be effective 1/1/2012.

Filed Date: 6/12/12.

Accession Number: 20120612-5022.

Comments Due: 5 p.m. ET 7/3/12.

Docket Numbers: ER12-1992-000.

Applicants: Southern California Edison Company.

Description: Letter Agreement SCE-SCE Tehachapi Wind Energy Storage Project to be effective 5/18/2012.

Filed Date: 6/12/12.

Accession Number: 20120612-5023.

Comments Due: 5 p.m. ET 7/3/12.

Docket Numbers: ER12-1993-000.

Applicants: San Diego Gas & Electric Company.

Description: Request for Waiver of San Diego Gas & Electric Company.

Filed Date: 6/11/12.

Accession Number: 20120611-5176.

Comments Due: 5 p.m. ET 7/2/12.

Docket Numbers: ER12-1994-000.

Applicants: Exelon Corporation.

Description: Request for Waiver of Exelon Corporation.

Filed Date: 6/11/12.

Accession Number: 20120611-5177.

Comments Due: 5 p.m. ET 7/2/12.

Docket Numbers: ER12-1995-000.

Applicants: K Road Modesto Solar LLC.

Description: Application for Initial Market-Based Rate Tariff to be effective 6/13/2012.

Filed Date: 6/12/12.

Accession Number: 20120612-5034.

Comments Due: 5 p.m. ET 7/3/12.

The filings are accessible in the Commission's eLibrary system by clicking on the links or querying the docket number.

Any person desiring to intervene or protest in any of the above proceedings must file in accordance with Rules 211 and 214 of the Commission's Regulations (18 CFR § 385.211 and § 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 12, 2012.
Nathaniel J. Davis, Sr.,
Deputy Secretary.

[FR Doc. 2012-15143 Filed 6-20-12; 8:45 am]

BILLING CODE 6717-01-P